DEPARTMENT OF DEFENSE

Office of the Secretary

Renewal of the Veterans' Advisory Board on Dose Reconstruction

AGENCY: Department of Defense.

ACTION: Renewal of Federal Advisory Committee.

SUMMARY: Under the provisions of the Federal Advisory Committee Act of 1972, (5 U.S.C. Appendix), the Government in the Sunshine Act of 1976 (5 U.S.C. 552b), and 41 CFR 102-3.50(a), the Department of Defense gives notice that it is renewing the charter for the Veterans' Advisory Board on Dose Reconstruction (hereinafter referred to as “the Board”). The Board has been determined to be in the public interest.

The Board is a non-discretionary federal advisory committee that shall provide review and oversight of the Radiation Dose Reconstruction Program and make such recommendations on modifications in the mission, procedures, and administration of the Radiation Dose Reconstruction Program as it considers appropriate as a result of the audits conducted under the authority of Section 601(c)(3)(A) of Title VI of Public Law 108-183. The Board shall:

a. Conduct periodic, random audits of dose reconstructions under the Radiation Dose Reconstruction Program and of decisions by the Department of Veterans Affairs on claims for service connection of radiogenic diseases;

b. Assist the Department of Veterans Affairs and the Defense Threat Reduction Agency in communicating to veterans information on the mission, procedures, and evidentiary requirements of the Radiation Dose Reconstruction Program;

c. Carry out such other activities with respect to the review and oversight of the Radiation Dose Reconstruction Program as the Secretary of Defense and Secretary of Veterans Affairs shall jointly specify;

d. Make recommendations on modifications to the mission and procedures of the Dose Reconstruction Program as the Board considers appropriate as a result of the audits conducted pursuant to paragraph (a) above;

e. Any additional actions the Secretary of Defense and the Secretary of Veterans Affairs jointly determine are required to ensure that the quality assurance and quality control mechanisms of the Radiation Dose Reconstruction Program are adequate and sufficient for purpose of the program; and

f. Any additional actions the Secretary of Defense and the Secretary of Veterans Affairs jointly determine are required to ensure that the mechanisms of the Radiation Dose Reconstruction Program for communication and interaction with veterans are adequate and sufficient for the program.

The Board, pursuant to Section 601(c)(2) of Title VI of Public Law 108-183, shall be comprised of:

a. At least one expert in historical dose reconstruction of the type conducted under the Radiation Dose Reconstruction Program.

b. At least one expert in radiation health matters.

c. At least one expert in risk communications matters.

d. A representative of the Defense Threat Reduction Agency and a representative of the Department of Veterans Affairs.

e. At least three veterans, including at least one Veteran who is a member of an atomic veterans group.

The Secretary of Defense and the Secretary of Veterans Affairs will jointly approve the appointment of Board members, and according to DoD policy the appointments will be renewed on an annual basis. Board members, who are not full-time or permanent part-time federal officers or employees shall be appointed to serve as experts and consultants under the authority of 5 U.S.C. 3109 and serve as special Government employees members. Each member of the Board is appointed to provide advice on behalf of the Government on the basis of his or her best judgment without representing any particular point of view and in a manner that is free from conflict of interest. With the exception of travel and per diem for official travel, Board members shall serve without compensation.

Board members, with the approval of the Secretary of Defense and the Secretary of Veteran Affairs, may serve a term of service on the Board of one-to-four years; however, no member, unless authorized by the Secretary of Defense, may serve more than two consecutive terms of service on the Board, to include its subcommittees.

The Department, when necessary and consistent with the Board's mission and DoD policies/procedures, may establish subcommittees, task forces, or working groups to support the Board. Establishment of subcommittees will be based upon written determination, to include terms of reference, by the Secretary of Defense, the Deputy Secretary of Defense, or the Board's sponsor.

Such subcommittees or work groups shall not work independently of the Board, and shall report all their recommendations and advice solely to the Board for full deliberation and discussion. Subcommittees, task forces, or working groups have no authority to make decisions and recommendations, verbally or in writing, on behalf of the chartered Board; nor can any subcommittee or its members update or report, verbally or in writing, on behalf of the Board; nor can any subcommittee or its members update or report directly to the DoD or any Federal officers or employees.

All subcommittee members shall be jointly appointed by the Secretary of Defense and the Secretary of Veterans Affairs according to governing DoD policies/procedures, even if the member in question is already a Board member.

Subcommittee members, if not full-time or part-time Government employees, shall be appointed to serve as experts and consultants under the authority of 5 U.S.C. 3109, and serve as special Government employee members, whose appointments must be renewed by the Secretary of Defense and Secretary of Veteran Affairs on an annual basis. Subcommittee members, with the approval of the Secretary of Defense and the Secretary of Veteran Affairs, may serve a term of service on the subcommittee of one-to-four years; however, no member shall serve more than two consecutive terms of service on the subcommittee, unless authorized by the Secretary of Defense and the Secretary of Veterans Affairs. With the exception of travel and per diem, subcommittee members shall serve without compensation.

Each subcommittee member is appointed to provide advice on behalf of the Government on the basis of his or her best judgment without representing any particular point of view and in a manner that is free from conflict of interest.

All subcommittees, task forces, working groups shall operate under the provisions of the FACA, the Government in the Sunshine Act, governing Federal statutes and regulations, and governing DoD policies/procedures.

Currently, DoD has approved the following permanent subcommittees to the Board to meet the requirements of Public Law 108-163.

a. The Subcommittee on DTRA Dose Reconstruction Procedures shall be composed of no more than four members and is responsible for reviewing and recommending improvements to the dose reconstruction process. The estimated number of meetings is two per year.

b. The Subcommittee on Veterans Affairs (VA) Claims Adjudication Procedures shall be composed of no more than four members and deals directly with the Department of Veterans Affairs to improve the process for handling Atomic Veterans claims. The estimated number of meetings is two per year.

c. The Subcommittee on Quality Management and VA Process Integration with DTRA Nuclear Test Personnel Review Program shall be composed of no more than four members and deals with quality issues with DTRA's nuclear test personnel review and VA in its claims adjudication process for Atomic Veterans. The estimate number of meetings is two per year.

d. The Subcommittee on Communication and Outreach shall be composed of no more than four members and deals with veteran outreach and communication programs. The estimated number of meetings is two per year.

FOR FURTHER INFORMATION CONTACT: Jim Freeman, Advisory Committee Management Officer for the Department of Defense, 703-692-5952.

SUPPLEMENTARY INFORMATION: The Designated Federal Officer (DFO), pursuant to DoD policy, shall be a full-time or permanent part-time DoD employee, and shall be appointed in accordance with established DoD policies/procedures.

In addition, the DFO is required to be in attendance at all Board and subcommittee meetings for the entire duration of each and every meeting. However, in the absence of the Board's DFO, a properly approved Alternate DFO, duly appointed to the Board according to the DoD policies/procedures, shall attend the entire duration of the Board or subcommittee meeting. The DFO, or the Alternate DFO, shall call all meetings of the Board and its subcommittees; prepare and approve all meeting agendas; adjourn any meeting, when the DFO, or the Alternate DFO, determines adjournment to be in the public interest or required by governing regulations or DoD policies/procedures; and chair meetings when directed to do so by the official to whom the Board reports.

Pursuant to 41 CFR 102-3.105(j) and 102-3.140, the public or interested organizations may submit written statements to the Veterans' Advisory Board on Dose Reconstruction's membership about the Board's mission and functions. Written statements may be submitted at any time or in response to the stated agenda of planned meeting of Veterans' Advisory Board on Dose Reconstruction.

All written statements shall be submitted to the Designated Federal Officer for the Veterans' Advisory Board on Dose Reconstruction, and this individual will ensure that the written statements are provided to the membership for their consideration. Contact information for the Veterans' Advisory Board on Dose Reconstruction's Designated Federal Officer can be obtained from the GSA's FACA Database— https://www.fido.gov/facadatabase/public.asp.

The Designated Federal Officer, pursuant to 41 CFR 102-3.150, will announce planned meetings of the Veterans' Advisory Board on Dose Reconstruction. The Designated Federal Officer, at that time, may provide additional guidance on the submission of written statements that are in response to the stated agenda for the planned meeting in question.

Dated: December 17, 2012.
Aaron Siegel,
Alternate OSD Federal Register Liaison Officer, Department of Defense.

[FR Doc. 2012-30655 Filed 12-19-12; 8:45 am]

BILLING CODE 5001-06-P